DEPARTMENT OF COMMERCE

International Trade Administration

[A-552-802]

Certain Frozen Warmwater Shrimp From the Socialist Republic of Vietnam: Extension of Preliminary Results of Antidumping Duty New Shipper Review

AGENCY: Import Administration, International Trade Administration, Department of Commerce.

SUMMARY: The Department of Commerce (“Department”) is extending the time limit for the preliminary results of the new shipper review of certain frozen warmwater shrimp (“shrimp”) from the Socialist Republic of Vietnam (“Vietnam”). The period of review for this review is February 1, 2010, through July 31, 2010.

DATES: Effective Date: March 23, 2011.

FOR FURTHER INFORMATION CONTACT: Paul Walker, AD/CVD Operations, Office 9, Import Administration, International Trade Administration, U.S. Department of Commerce, 14th Street and Constitution Avenue, NW., Washington, DC 20230; telephone: (202) 482-0413.

Background

On October 1, 2010, the Department published a notice of initiation of the new shipper review in the antidumping duty order on shrimp from Vietnam for Quoc Viet Seaproducts Processing Trading and Import-Export Co., Ltd. (“Quoc Viet”). See Certain Frozen Warmwater Shrimp from the Socialist Republic of Vietnam: Initiation of Antidumping Duty New Shipper Review, 75 FR 60730 (October 1, 2010). The preliminary results of this review are currently due no later than March 19, 2011.

Statutory Time Limits

Section 751(a)(2)(B)(iv) of the Tariff Act of 1930, as amended (the “Act”), and 19 CFR 351.214(i)(1) require the Department to issue the preliminary results of a new shipper review within 180 days after the date on which the new shipper review was initiated and final results within 90 days after the date on which the preliminary results are issued. However, the Department may extend the deadline for completion of the preliminary results of a new shipper review to 300 days if it determines that the case is extraordinarily complicated. See 19 CFR 351.214(i)(2).

Extension of Time Limit for Preliminary Results of Review

The Department has determined that the review is extraordinarily complicated as the Department must issue, and analyze the responses to, additional supplemental questionnaires concerning Quoc Viet's sales practices and its shrimp factors of production usage ratio. Moreover, the Department needs additional time to analyze the bona fide nature of Quoc Viet's sale, which includes gathering data from U.S. Customs and Border Protection. Based on the timing of the case and the additional information that must be gathered, the preliminary results of this new shipper review cannot be completed within 180 days.

Therefore, the Department is extending the time limit for completion of the preliminary results of this new shipper review by 26 days from the original March 19, 2011, deadline. The preliminary results will now be due no later than April 14, 2011. The final results continue to be due 90 days after the issuance of the preliminary results.

We are issuing and publishing this notice in accordance with sections 751(a)(2)(B)(iv) and 777(i) of the Act.

Dated: March 16, 2011.
Christian Marsh,
Deputy Assistant Secretary for Antidumping and Countervailing Duty Operations.

[FR Doc. 2011-6883 Filed 3-22-11; 8:45 am]

BILLING CODE 3510-DS-P